DEPARTMENT OF DEFENSE

GENERAL SERVICES ADMINISTRATION

NATIONAL AERONAUTICS AND SPACE ADMINISTRATION

48 CFR Part 52

[FAC 2005-54; Correction; FAR Case 2011-014; Docket 2011-0014; Sequence 1]

RIN 9000-AM11

Federal Acquisition Regulation; Correction

AGENCIES: Department of Defense (DoD), General Services Administration (GSA), and National Aeronautics and Space Administration (NASA).

ACTION: Correcting amendments.

SUMMARY: This document contains corrections to the final rule which was published in the Federal Register of Wednesday, November 2, 2011 (76 FR 68039). The final rule amended the Federal Acquisition Regulation (FAR) to revise the definitions of “Caribbean Basin country” and “designated country” due to the change in status of the islands that comprised the Netherlands Antilles.

DATES: Effective Date: December 9, 2011.

FOR FURTHER INFORMATION CONTACT: Ms. Cecelia L. Davis, Procurement Analyst, at (202) 219-0202, for clarification of content. Contact the Regulatory Secretariat, at 1275 First Street NE., Washington, DC 20417, or (202) 501-4755, for information pertaining to status or publication schedules. Please cite FAC 2005-54; Correction.

SUPPLEMENTARY INFORMATION:

Background

DoD, GSA, and NASA published a final rule, FAR Case 2011-014, Successor Entities to the Netherlands Antilles, in the Federal Register of Wednesday, November 2, 2011 (76 FR 68039). The rule amended the Federal Acquisition Regulation (FAR) by revising the definitions of “Caribbean Basin country” and “designated country” due to the change in status of the islands that comprised the Netherlands Antilles.

Need for Correction

As published, the regulations contain technical errors in the promulgated rule.

List of Subjects in 48 CFR Part 52

Government procurement.

Accordingly, 48 CFR part 52 is corrected by making the following correcting amendments:

PART 52—SOLICITATION PROVISIONS AND CONTRACT CLAUSES

1. The authority citation for 48 CFR part 52 continues to read as follows:

Authority: 40 U.S.C. 121(c); 10 U.S.C. chapter 137; and 42 U.S.C. 2473(c).

2. Amend section 52.212-5 by—

a. Revising paragraph (b)(39); and

b. Removing from paragraph (b)(40) “(Aug 09)” and adding “(Nov 2011)” in its place.

The revised text reads as follows:

52.212-5 Contract Terms and Conditions Required To Implement Statutes or Executive Orders—Commercial Items.

* * * * *

(b) * * *

__ (39)(i) 52.225-3, Buy American Act—Free Trade Agreements—Israeli Trade Act (June 2009) (41 U.S.C. 10a-10d, 19 U.S.C. 3301 note, 19 U.S.C. 2112 note, 19 U.S.C. 3805 note, Pub. L. 108-77, 108-78, 108-286, 108-302, 109-53, 109-169, 109-283, and 110-138).

__ (ii) Alternate I (Jan 2004) of 52.225-3.

__ (iii) Alternate II (Jan 2004) of 52.225-3.

* * * * *

Dated: December 5, 2011.
Laura Auletta,
Acting Director, Office of Governmentwide Acquisition Policy, Office of Acquisition Policy, Office of Governmentwide Policy.

[FR Doc. 2011-31654 Filed 12-8-11; 8:45 am]

BILLING CODE 6820-EP-P